DEPARTMENT OF AGRICULTURE

Food and Nutrition Service

National School Lunch, Special Milk, and School Breakfast Programs, National Average Payments/Maximum Reimbursement Rates; Correction

AGENCY: Food and Nutrition Service (FNS), USDA.

ACTION: Notice, correction.

SUMMARY: The Food and Nutrition Service published a document on July 16, 2021, concerning reimbursement rates for the National School Lunch, Special Milk, and School Breakfast Programs. The document contained an incorrect table entry.

FOR FURTHER INFORMATION CONTACT: Mike Rizzo 703-305-4364.

SUPPLEMENTARY INFORMATION: In the Federal Register issue of July 16, 2021, appearing on pages 37733-37737 make the following correction: On page 37736, in the table “MEAL, SNACK AND MILK PAYMENTS TO STATES AND SCHOOL FOOD AUTHORITIES”, in the eighth column, in the second line, “3.59” should read “3.50”. The corrected table appears below:

BILLING CODE 3410-30-P

Cynthia Long,
Acting Administrator, Food and Nutrition Service.

[FR Doc. 2021-18733 Filed 8-30-21; 8:45 am]

BILLING CODE 3410-30-C